DEPARTMENT OF TRANSPORTATION

National Highway Traffic Safety Administration

[Docket Number NHTSA-2018-0015]

Reports, Forms and Record Keeping Requirements

AGENCY: National Highway Traffic Safety Administration (NHTSA), Department of Transportation (DOT).

ACTION: Notice and request for comments.

SUMMARY: The Department of Transportation invites public comments about our intention to request approval from the Office of Management and Budget (OMB) to reinstate an information collection. Before a Federal agency can collect certain information from the public, it must receive approval from the OMB. Under procedures established by the Paperwork Reduction Act of 1995, before seeking OMB approval, Federal agencies must solicit public comment on proposed collections of information, including extensions and reinstatement of previously approved collections.

DATES: Written comments should be submitted by July 15, 2019.

ADDRESSES: You may submit comments (identified by DOT Docket No. NHTSA-2018-0015) through one of the following methods:

• Federal eRulemaking Portal: http://www.regulations.gov. Follow instructions for submitting comments.

• Fax: 202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Hisham Mohamed, NHTSA 1200 New Jersey Ave. SE, West Building, Room W43-437, NVS-131, Washington, DC 20590. Mr. Mohamed's telephone number is 202-366-0307. Please identify the relevant collection of information by referring to its OMB Control Number.

SUPPLEMENTARY INFORMATION:

Title: 49 CFR 575—Consumer Information Regulations (sections 103 and 105).

OMB Control Number: 2127-0049.

Type of Request: Request for Reinstatement of a Previously Approved Collection of Information.

Abstract: This information collection pertains to 49 CFR part 575. Part 575.103, “Truck-camper loading,” requires manufacturers of light trucks that are capable of accommodating slide-in campers to provide information on the cargo weight rating and the longitudinal limits within which the center of gravity for the cargo weight rating should be located. Section 103 also requires manufacturers of slide-in campers to affix to each camper a label that contains information relating to identification and proper loading of the camper and to provide more detailed loading information in the owner's manual.¹ 49 CFR part 575.105, “Vehicle rollover,” requires manufacturers of certain utility vehicles to affix a label in a prominent location alerting drivers that the handling and maneuvering characteristics of utility vehicles require special driving practices when these vehicles are operated.² Also, as required by 49 CFR part 575.6(d)(1)(i), vehicle manufacturers must submit to NHTSA's Administrator, prior to new model introduction, two copies of the information specified Part 575.103 and Part 575.105 that is applicable to the vehicles offered for sale. The information must be submitted at least 90 days before information on such vehicles is first provided for examination by prospective purchasers.

¹ The requirement to provide information in the owners' manuals of trucks capable of accommodating slide-in campers and the owners' manuals for slide-in campers is covered by NHTSA's information collection clearance with OMB Control No. 2127-0541.

² The requirements to provide information in the owners' manuals of utility vehicles with wheelbases of 110 inches or less and special features for occasional off-road operation is covered by NHTSA's information collection clearance with OMB Control No. 2127-0541.

NHTSA estimates there are currently 17 slide-in camper manufacturers and seven manufacturers of trucks capable of accommodating slide-in campers complying with Part 575.103 and 18 utility vehicle manufacturers complying with Part 575.105 annually. There is overlap between the truck manufactures that must comply with section 103 and the utility vehicles that must comply with section 105. Therefore, NHTSA estimates there are only 35 annual respondents. This consists of a total of 18 manufacturers that comply with the requirement to label trucks capable of accommodating slide-in camper units and/or the requirement to label utility vehicles with a wheelbase of 110 inches or less and special features for occasional off-road operation. The additional 17 respondents are the manufacturers of slide-in campers. While NHTSA estimates there to be 35 annual respondents, only a small fraction would be required to submit information to NHTSA.

Based on prior years' manufacturer submissions, NHTSA estimates that it will receive 15 submissions from manufacturers of trucks capable of accommodating slide-in campers and manufacturers of utility vehicles that are required to comply with Part 575.105 annually. Manufacturers are not required to submit a response to NHTSA every year. Instead, they are only required to submit information to NHTSA when they introduce a new model or make changes to the information they provide in compliance with Part 575.103 and Part 575.105. Of the 15 submissions, NHTSA estimates 12 of the submissions will be for the introduction of new model vehicles. Manufacturers rarely make changes to the information provided to consumers, but we estimate at least three manufacturers will submit revised information each year. To satisfy the requirement to submit information to NHTSA, the light truck manufacturers and utility vehicle manufacturers gather only pre-existing data for the purposes of this regulation. Based on previous years' manufacturer information, the agency estimates it takes a light truck manufacturer a total of 20 hours to gather and arrange data in its proper format. The estimated annual burden for data gathering, arranging data in its proper format and distributing it to dealerships would be 300 hours (15 submissions × 20 hours per submission = 300 hours). Manufacturer information indicates it takes an average of $37.00 per hour for professional and clerical staff to gather the data and, distribute and print material. Therefore, the agency estimates the annual cost associated with the burden hours is $11,100 ($37.00 per hour × 300 burden hours).

NHTSA estimates it will take an average of 18 seconds (0.005 hours) to affix a label to each slide-in camper unit that is required to comply with Part 575.103 and each utility vehicle that is required to comply with Part 575.103.³ NHTSA estimates that in each of the next three years 11,000 slide-in camper units and 3,000,000 ⁴ utility vehicles will be labeled pursuant to Part 575.103 and 105, respectively, and labeling will take approximately 1,5055 hours (3,011,000 truck camper units and utility vehicles × 0.005 hours = 15,055 hours). At a cost of $20 per hour, the total burden hours for affixing labels is estimated to be $301,100 annually (15,055 hours × $20.00 = $301,100).

³ This is based on the estimated time to affix certification labels pursuant to 49 CFR 567. For more information, see the information collection clearance with OMB Control No. 2127-0510.

⁴ NHTSA's data shows there were approximately 2,430,392 utility vehicles manufactured in 2016 with a wheelbase of 110 inches or less and special features for occasional off-road use. NHTSA's data from its Corporate Average Fuel Economy program shows that this figure is increasing each year. To account for this upward trend, NHTSA estimates 3,000,000 utility vehicles will be manufactured in the next three years that will be required to comply with section 575.105.

NHTSA estimates each label costs $0.35 to print. Therefore, the total printing costs for the 3,011,000 labels would be $1,053,850 ($0.35 per label × 3,011,000 units). Therefore, NHTSA estimates the total cost to label each slide-in camper and utility vehicle to be $1,354,950 ($301,100 cost to affix labels + $1,053,850 printing costs). The total cost of this information collection is $1,366,050 ($1,354,950 for labeling + $11,100 for submissions).

The total estimated annual cost to manufacturers to comply with Part 575.103 and Part 575.105 requirements including label costs is $1,366,050. The annual reporting and recordkeeping cost burden decreased because the previous information collection clearance overestimated the number of utility vehicles manufactured that require labels pursuant to Part 575.105. Thus, the total annual cost decreased from $2,904,336 to $1,366,050. This represents an adjustment of (−$1,538,286). The total number of burden hours increased from 300 hours to 15,355 because this reinstatement counts labor hours for labeling each utility vehicle and slide-in camper.

Affected Public: Motor vehicle and equipment manufacturers.

Estimated Number of Respondents: 35 (18 utility vehicle and truck manufacturers and 17 slide-in camper manufacturers).

Frequency: Intermittently.

Number of Responses: 15 submissions to NHTSA and 3,011,000 labeling responses.

Estimated Total Annual Burden Hours: 15,850.

Estimated Total Annual Burden Cost: $1,366,050.

Public Comments Invited: You are asked to comment on any aspect of this information collection, including (a) whether the proposed collection of information is necessary for the Department's performance; (b) the accuracy of the estimated burden; (c) ways for the Department to enhance the quality, utility and clarity of the information collection; and (d) ways the burden could be minimized without reducing the quality of the collected information. The Agency will summarize and/or include your comments in the request for OMB's clearance of this information collection.

Authority: The Paperwork Reduction Act of 1995, 44 U.S.C. chapter 35.

Issued in Washington, DC, under authority delegated in 49 CFR 1.95 and 501.8.
Raymond R. Posten,
Associate Administrator for Rulemaking.

[FR Doc. 2019-09850 Filed 5-13-19; 8:45 am]

BILLING CODE 4910-59-P